DEPARTMENT OF COMMERCE

International Trade Administration

[A-552-801]

Certain Frozen Fish Fillets From the Socialist Republic of Vietnam: Extension of Time Limit for Preliminary Results of the 6th Antidumping Duty Administrative and 6th New Shipper Reviews

AGENCY: Import Administration, International Trade Administration, Department of Commerce.

DATES: Effective Date: July 30, 2010.

FOR FURTHER INFORMATION CONTACT: Javier Barrientos, AD/CVD Operations, Office 9, Import Administration, International Trade Administration, U.S. Department of Commerce, 14th Street and Constitution Avenue, NW., Washington, DC 20230; telephone: (202) 482-2243.

Background

On September 22, 2009, the Department of Commerce (“Department”) published a notice of initiation on the 6th antidumping duty administrative review for certain frozen fish fillets from the Socialist Republic of Vietnam covering the period August 1, 2008, through July 31, 2009. See Initiation of Antidumping and Countervailing Duty Administrative Reviews and Request for Revocation in Part, 74 FR 48224, (September 22, 2009). On September 17, 2009, the Department initiated the 6th antidumping duty new shipper review on CUU Long Fish Joint Stock Company (“CL-Fish”), covering the period August 1, 2008, through July 31, 2009. See Certain Frozen Fish Fillets from the Socialist Republic of Vietnam: Initiation of New Shipper Review, 74 FR 48908, (September 25, 2009). On January 29, 2010, the Department replaced a mandatory respondent in the instant administrative review with Vinh Quang Fisheries Corporation (“Vinh Quang”). See Memorandum to the File, from Emeka Chukwudebe, Case Analyst, Import Administration, through Alex Villanueva, Program Manager, Import Administration, RE: Antidumping Duty Administrative Review of Certain Frozen Fish Fillets from the Socialist Republic of Vietnam (“Vietnam”): Replacement of Mandatory Respondent, dated January 29, 2010.

On January 29, 2010, the Department extended the deadline for parties to file surrogate country comments and surrogate value data. See Memorandum to the File, from Emeka Chukwudebe, Case Analyst, Import Administration, through Alex Villanueva, Program Manager, Import Administration, RE: Administrative Review of Certain Frozen Fish Fillets from the Socialist Republic of Vietnam: Extension Request for Surrogate Country Selection Comments and Surrogate Value Submissions, dated January 29, 2010. On February 12, 2010, the Department tolled administrative deadlines, including in the instant review, by one calendar week. See Tolling of Administrative Deadlines As a Result of the Government Closure During the Recent Snowstorm, dated February 12, 2010 (“Tolling Memo”). On March 9, 2010, the Department aligned the 6th new shipper review with the 6th administrative review. See Memorandum to the File, from Javier Barrientos, Senior Case Analyst, Import Administration, through Alex Villanueva, Program Manager, Import Administration, RE: Alignment of 6th New Shipper Review of Certain Frozen Fish Fillets from the Socialist Republic of Vietnam with the 6th Administrative Review of Certain Frozen Fish Fillets from the Socialist Republic of Vietnam, dated March 9, 2010. On April 2, 2010, the Department received surrogate country comments. Between April 2, 2010, and July 9, 2010, the Department received surrogate value data and surrogate rebuttal comments from interested parties. On April 22, 2010, the Department extended the deadline for the preliminary results in the instant review. See Certain Frozen Fish Fillets from the Socialist Republic of Vietnam: Extension of Time Limit for Preliminary Results of the 6th Antidumping Duty Administrative and 6th New Shipper Reviews, 75 FR 20983 (April 22, 2010). The preliminary results are currently due on August 8, 2010 (inclusive of the seven day extension per the Tolling Memo).

Extension of Time Limits for Preliminary Results

Section 751(a)(3)(A) of the Tariff Act of 1930, as amended (“Act”), and 19 CFR 351.213(h)(1) require the Department to issue the preliminary results in an administrative review of an antidumping duty order 245 days after the last day of the anniversary month of the order for which the administrative review was requested. The Department may, however, extend the deadline for completion of the preliminary results of an administrative review to 365 days if it determines it is not practicable to complete the review within the foregoing time period. See section 751(a)(3)(A) of the Act and 19 CFR 351.213(h)(2).

The Department finds that it is not practicable to complete the preliminary results within this time limit. The Department is extending the deadline because it needs more time to analyze the supplemental responses of the new mandatory respondent. In addition, parties have submitted voluminous surrogate country comments and surrogate value data, and thus will require additional time to analyze these data. Thus, the Department requires additional time to address these circumstances in these reviews. We are, therefore, extending the time for the completion of the preliminary results of these reviews by 30 days, from the date of the presently tolled due date of August 8, 2010, for the preliminary results, to September 7, 2010.

This notice is published in accordance with section 751(a)(3)(A) of the Act and 19 CFR 351.213(h)(2).

Dated: July 23, 2010.
Edward C. Yang,
Acting Deputy Assistant Secretary for Antidumping and Countervailing Duty Operations.

[FR Doc. 2010-18782 Filed 7-29-10; 8:45 am]

BILLING CODE 3510-DS-P